DEPARTMENT OF COMMERCE

National Oceanic and Atmospheric Administration

[I.D. 071204C]

Pacific Fishery Management Council; Notice of Intent

AGENCY: National Marine Fisheries Service (NMFS), National Oceanic and Atmospheric Administration (NOAA), Commerce.

ACTION: Notice of intent to prepare an environmental impact statement (EIS); request for written comments; preliminary notice of scoping meetings.

SUMMARY: NMFS and the Pacific Fishery Management Council (Council) intend to prepare an EIS in accordance with the National Environmental Policy Act (NEPA) of 1969 to analyze a range of alternatives for the annual allocation of the Pacific sardine harvest guideline.

DATES: Written comments will be accepted at the Council office through August 25, 2004.

ADDRESSES: You may submit comments, identified by (I.D. 071204C), by any of the following methods:

• E-mail: pfmc.comments@noaa.gov: (enter “Pacific Sardine Allocation” and include the I.D. number in the subject line of the message).

• Mail: Written comment on issues and alternatives to be addressed in this EIS should be sent to Dr. Donald McIsaac, Pacific Fishery Management Council, 7700 NE Ambassador Place, Suite 200, Portland, OR 97220.

• Fax: 503-820-2299.

FOR FURTHER INFORMATION CONTACT: Svein Fougner, NMFS, Southwest Region telephone: 562-980-4040, fax: 562-980-4018; or Dan Waldeck, Pacific Fishery Management Council, telephone: 503-820-2280, fax: 503-820-2299.

SUPPLEMENTARY INFORMATION:

Electronic Access

This Federal Register document is available on the Government Printing Office's website at: www.gpoaccess.gov/fr/index/html.

Background

NEPA requires consideration of a full range of reasonable alternatives including status quo (no action). The Council has not yet determined which alternative will be its preferred alternative. When developed, the proposed management alternatives would modify the Pacific sardine allocation framework in the Coastal Pelagic Species (CPS) Fishery Management Plan (FMP) and regulations that implement the FMP (68 FR 52523). The tentative schedule for Council actions related to this matter is: September 2004, progress report; November 2004, review preliminary range of draft alternatives; January-February 2005, public hearings on range of alternatives; March or April 2005, preliminary action; June 2005, final action. If this schedule holds, and NMFS approves the Council action; the Council anticipates implementation of the new Pacific sardine allocation framework in time for the 2006 Pacific sardine fishery, which opens January 1.

Description of the Proposal

The proposed action is to implement a comprehensive, long-term allocation framework to apportion the annual Pacific sardine harvest guideline among the various sectors of the sardine fishery. The Pacific sardine resource is healthy and abundant, supporting fisheries in California (Los Angeles harbor area and Monterey Bay area), in Oregon (Port of Astoria), and Washington (ports of Westport and Ilwaco). The proposal is intended to ensure optimal utilization of the resource and equitably allocate harvest opportunity.

The Council adopted the CPS FMP in 1998. The CPS FMP was implemented by NMFS in December 1999 (64 FR 69888). The original Pacific sardine allocation formula in the FMP partitioned 33 percent of the annual harvest guideline to the northern subarea (“Subarea A”) and 66 percent to the southern subarea (“Subarea B”). Nine months after the January 1 start of the fishery (i.e., October 1), the remaining harvest guideline was pooled and re-allocated 50 percent - 50 percent to each subarea. The original boundary between the two subareas was 35° 40′ N lat. (approximately Point Piedras Blancas, California). This formula was incorporated into Federal management from existing California State law. The State law was designed to balance fishing opportunity between the Southern California-based fishery (“South”) and the Monterey-based fishery (“North”). At the time of the FMP's implementation, this was considered a status quo action (as the sardine fishery occurred, principally, in California) with no environmental impacts. No alternative allocation formulae were considered.

As the Pacific sardine biomass expanded, fisheries developed in the Pacific Northwest. With this expansion, under the original formula, the northern area allocation was shared by Monterey, Oregon, and Washington-based fisheries. Oregon and Washington fishery interests expressed concern to the Council that the original allocation framework did not provide optimal harvest opportunity to the respective fishery sectors. Each of the three sectors operates over a unique schedule. Generally, Southern California starts harvesting sardine January 1 and harvest increases steadily throughout the year; Northern California starts in August (tied to market squid availability) and harvest increases through January or February of the following year; and Oregon and Washington have a much more abbreviated season, which starts in June and ends in October. Because these sectors operate on very different schedules, annual allocations help to ensure that each sector receives a reasonable fishing opportunity. Ex-vessel landings in all sectors are driven by domestic and international market forces for sardines, as well as the availability and markets for other species of economic benefit to sardine vessels and processors (for example, market squid). The Northern California fishery and Pacific Northwest fishery are also affected by adverse weather.

In April 2003, the Council recommended to NMFS an interim framework for allocating sardine. The revised allocation system: (1) changed the definition of Subarea A (northern subarea) and Subarea B (southern subarea) by moving the geographic boundary between the two areas from 35° 40′ N. lat. (Point Piedras Blancas, California) to 39° N. lat. (Point Arena, California), (2) moved the date when Pacific sardine that remains unharvested is reallocated to Subarea A and Subarea B from October 1 to September 1, (3) changed the percentage of the unharvested sardine that is reallocated to Subarea A and Subarea B from 50 percent to both subareas to 20 percent to Subarea A and 80 percent to Subarea B, and (4) reallocates all unharvested sardine that remains on December 1 coastwide.

The Council requested this allocation framework be in place for the 2003 and 2004 fishing seasons, and also in 2005 (if the 2005 harvest guideline is at least 90 percent of the 2003 harvest guideline). NMFS implemented the revised allocation framework by a regulation that was published on September 4, 2003 (68 FR 52523).

Using the best available information, the interim allocation framework was rapidly developed to address the concerns in the short-term. At the time, it was understood that more information and time would be needed to develop a more comprehensive, longer-term allocation framework, which is a purpose of this EIS.

Preliminary Identification of Environmental Issues

A principal objective of this scoping and public input process is to identify potentially significant impacts to the human environment that should be analyzed in depth in the EIS. Impacts of the following components on the biological and physical environment may be evaluated: (1) essential fish habitat and ecosystems; (2) protected species listed under the Endangered Species Act or protected by the Marine Mammal Protection Act and the critical habitat of those species (if any); and (3) the fishery management unit, including target and nontarget fish stocks. Socioeconomic impacts on the following groups are also going to be evaluated: (1) those who participate in harvesting the fishery resources and other living marine resources (for commercial, subsistence, or recreational purposes); (2) those who process and market fish and fish products; (3) those who are involved in allied support industries; (4) those who rely on living marine resources in the management area; (5) those who consume fish products; (6) those who benefit from nonconsumptive use (e.g., wildlife viewing); (7) those who do not use the resource, but derive benefit from it by virtue of its existence, the option to use it, or the bequest of the resource to future generations; (8) those involved in managing and monitoring fisheries; and (9) fishing communities. Analysis of these groups will be presented in a manner that allows the identification of any disproportionate impacts on low income and minority segments of the identified groups and impacts on small entities.

Scoping and Public Involvement

Scoping is an early and open process for determining the scope of issues to be addressed and for identifying the significant issues related to proposed alternatives (including status quo). A principal objective of the scoping and public input processes is to identify a reasonable set of alternatives that, with adequate analysis, sharply define critical issues and provide a clear basis for distinguishing among those alternatives and selecting a preferred alternative. The public scoping process provides the public with the opportunity to comment on the range of alternatives and specific options within the alternatives. The scope of the alternatives to be analyzed should be broad enough for the Council and NMFS to make informed decisions on whether an alterative should be developed and, if so, how it should be designed, and to assess other changes to the FMP and regulations necessary for the implementation of the alternative.

Dated: July 13, 2004.
Alan D. Risenhoover,
Acting Director, Office of Sustainable Fisheries, National Marine Fisheries Service.

[FR Doc. 04-16358 Filed 7-16-04; 8:45 am]

BILLING CODE 3510-22-S